DEPARTMENT OF COMMERCE

International Trade Administration

[A-533-810]

Stainless Steel Bar From India: Extension of Time Limit for the Final Results of the 2009-2010 Antidumping Duty Administrative Review

AGENCY: Import Administration, International Trade Administration, Department of Commerce.

DATES: Effective Date: April 14, 2011.

FOR FURTHER INFORMATION CONTACT: Scott Holland or Yasmin Nair, AD/CVD Operations, Office 1, Import Administration, International Trade Administration, U.S. Department of Commerce, 14th Street and Constitution Avenue, NW., Washington, DC 20230; telephone (202) 482-1279 and (202) 482-3813, respectively.

SUPPLEMENTARY INFORMATION:

Background

On March 4, 2011, the Department of Commerce (“Department”) published its preliminary results of the 2009-2010 antidumping duty administrative review. See Stainless Steel Bar From India: Preliminary Results of, and Partial Rescission of, the Antidumping Duty Administrative Review, and Intent Not To Revoke the Order, in Part, 76 FR 12044 (March 4, 2011) (“Preliminary Results”). The final results for this review are currently due no later than July 2, 2011.

Extension of Time Limit for Final Results

Section 751(a)(3)(A) of the Tariff Act of 1930, as amended (“Act”), requires that the Department issue the final results of an administrative review within 120 days after the date on which the preliminary results are published. If it is not practicable to complete the review within this time period, section 751(a)(3)(A) of the Act allows the Department to extend the deadline for the final results to a maximum of 180 days after the date on which the preliminary results are published.

The Department has determined that it requires additional time to complete this review. After publishing the Preliminary Results, the Department conducted a verification of the cost of production responses for Venus Wire Industries Pvt. Ltd. and its affiliate, Sieves Manufacturers (India) Private Limited. The Department intends to issue a comprehensive report of the results of this verification. Further, the Department needs to allow time for parties to review this verification report, which further delays the briefing schedule. Thus, it is not practicable to complete this review by July 2, 2011, and the Department is extending the time limit for completion of the final results by an additional 60 days to August 31, 2011.

This notice is published pursuant to sections 751(a) and 777(i) of the Act.

Dated: April 7, 2011.
Christian Marsh,
Deputy Assistant Secretary for Antidumping and Countervailing Duty Operations.

[FR Doc. 2011-9115 Filed 4-13-11; 8:45 am]

BILLING CODE 3510-DS-P